DEPARTMENT OF COMMERCE

National Oceanic and Atmospheric Administration

[RTID 0648-XF270]

Gulf Fishery Management Council; Public Meeting

AGENCY: National Marine Fisheries Service (NMFS), National Oceanic and Atmospheric Administration (NOAA), Commerce.

ACTION: Notice of hybrid meeting open to the public offering both in-person and virtual options for participation.

SUMMARY: The Gulf Fishery Management Council (Council) will hold a 4 day meeting to consider actions affecting the Gulf of America fisheries in the exclusive economic zone (EEZ).

DATES: The meeting will convene Monday, November 3 through Thursday, November 6, 2025, 8:30 a.m.-5 p.m., CST daily.

ADDRESSES: The meeting will take place at the Golden Nugget Hotel and Casino, located at 151 Beach Boulevard, Biloxi, MS 39530. If you prefer to “listen in”, you may access the log-on information by visiting our website at www.gulfcouncil.org.

Council address: Gulf Fishery Management Council, 4107 W Spruce Street, Suite 200, Tampa, FL 33607; telephone: (813) 348-1630.

FOR FURTHER INFORMATION CONTACT: Dr. Carrie Simmons, Executive Director, Gulf Fishery Management Council; telephone: (813) 348-1630.

SUPPLEMENTARY INFORMATION:

Monday, November 3, 2025; 8:30 a.m.-5 p.m., CST

The meeting will begin in Full Council to review and adopt proposed and current Council Committee Assignments for November 2025 through August 2026. Committee Sessions will follow beginning with Habitat Protection & Restoration Committee receiving an update on Essential Fish Habitat (EFH) Generic Amendment 5 and Scientific and Statistical Committee (SSC) Recommendations.

Sustainable Fisheries Committee will review Regulatory Streamlining Report from Contractors and SSC Feedback, Ecosystem Committee will discuss draft Fishery Ecosystem Plan and Ecosystem Technical Committee recommendations, and the Shrimp Committee will review and discuss Final Action: Shrimp Amendment 19: Shrimp Permit Moratorium Draft, SSC Summary of SEDAR 87 Gulf Penaeid Shrimp Stock Assessment Reviews and receive a Working Group update on Shrimp Bycatch Methodologies for Finfish.

The Data Collection Committee will receive a report from the SSC on Recreational Data Collection discussions and update on Commercial Electronic Logbook implementation.

Tuesday, November 4, 2025; 8:30 a.m.-5 p.m., CST

The meeting will begin with a Litigation update. The Reef Fish Committee will convene to discuss Public Hearing Drafts for Reef Fish Amendment 58A: Shallow-water Grouper Complex Management considerations Reef Fish Amendment 62: Modifications to Gulf Red Grouper Management Measures. The committee will review draft options Reef Fish Amendment 63: Modifications to Gulf Red Grouper IFQ Program and Reef Fish Amendment 55/Snapper Grouper Amendment 44: Modifications to Mutton Snapper and Yellowtail Snapper Management Measures. The committee will review and discuss Final Action: Abbreviated Framework Action: Continuation of DESCEND Act Management Measures in the Gulf.

Wednesday, November 5, 2025; 8:30 a.m.-5 p.m., CST

The Reef Fish Committee will reconvene with a review of Reef Fish and Individual Fishing Quota (IFQ) Program Landings and State Program Landings for Red Snapper and Greater Amberjack and receive a presentation on Delegation of Management of Federal For-Hire Vessels to the Gulf States for Red Snapper.

The Council will reconvene at approximately 1:30 p.m., CST with a Call to Order, Announcements and Introductions, Adoption of Agenda and Approval of Minutes. The Council will hold public testimony beginning at 1:40 p.m. to 5 p.m., CST on Final Action Items: Shrimp Amendment 19: Shrimp Permit Moratorium draft and Abbreviated Framework Action: Continuation of DESCEND Act Management Measures in the Gulf; and open testimony on other fishery issues or concerns. Public comment may begin earlier than 1:40 p.m. CST but will not conclude before that time. Persons wishing to give public testimony in-person must register at the registration kiosk in the meeting room. Persons wishing to give public testimony virtually must sign up on the Council website on the day of public testimony. Registration for virtual testimony closes one hour (12:40 p.m. CST) before public testimony begins.

Thursday, November 6, 2025; 8:30 a.m.-5 p.m., CST

The Council will receive Committee reports from Habitat Protection & Restoration, Sustainable Fisheries, Ecosystem, Shrimp, Data Collection, and Reef Fish Committees. The Council will receive updates from the following supporting agencies: South Atlantic Fishery Management Council Liaison; Mississippi Law Enforcement Efforts; NOAA Office of Law Enforcement (OLE); Gulf States Marine Fisheries Commission; U.S. Coast Guard; U.S. Fish and Wildlife Service; and Department of State.

Lastly, the Council will hear an update on documents transmitted for rule making and hold a discussion on Council Planning and Primary Activities and any Other Business items.

Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

(Authority: 16 U.S.C. 1801 et seq.)

Dated: September 29, 2025.
Becky J. Curtis,
Acting Deputy Director, Office of Sustainable Fisheries, National Marine Fisheries Service.

[FR Doc. 2025-19360 Filed 10-1-25; 8:45 am]

BILLING CODE 3510-22-P